DEPARTMENT OF HEALTH AND HUMAN SERVICES

National Institutes of Health

National Institute of Neurological Disorders and Stroke; Amended Notice of Meeting

Notice is hereby given of a change in the meeting of the National Advisory Neurological Disorders and Stroke Council, May 30, 2002, 8:00 a.m. to May 30, 2002, 10:00 a.m., National Institutes of Health, Building 31, A Wing, Conference Room 8A28, 31 Center Drive, Bethesda, MD, 20892, which was published in the Federal Register on May 2, 2002, 67 FR 02-10911.

The location of the Clinical Trials Subcommittee meeting has been changed to Building 31, Conference Room 10, The meeting is partially Closed to the public.

Dated: May 24, 2002.
LaVerne Y. Stringfield,
Director, Office of Federal Advisory Committee Policy.

[FR Doc. 02-13724 Filed 5-30-02; 8:45 am]

BILLING CODE 4140-01-M